DEPARTMENT OF THE TREASURY

Internal Revenue Service

26 CFR Parts 1 and 301

[REG-108524-00]

RIN-1545-AY28

Section 1446 Regulations; Correction

AGENCY: Internal Revenue Service (IRS), Treasury.

ACTION: Correction to a notice of proposed rulemaking.

SUMMARY: This document contains a correction to a notice of proposed rulemaking that was published in the Federal Register on September 3, 2003 (68 FR 52466) regarding the obligation of a partnership to pay a withholding tax on effectively connected taxable income allocable under section 704 to a foreign partner.

FOR FURTHER INFORMATION CONTACT: David J. Sotos at (202) 622-3860 (not a toll-free number).

SUPPLEMENTARY INFORMATION:

Background

The proposed regulations that are the subject of these corrections are under section 704 of the Internal Revenue Code.

Need for Correction

As published, this notice of proposed rulemaking contains errors that may prove to be misleading and are in need of clarification.

Correction of Publication

Accordingly, the publication of notice of proposed rulemaking (REG-108524-00), which is the subject of FR. Doc. 03-22175, is corrected as follows:

1. On page 52469, column 2, in the preamble, under the paragraph heading “Special Rules for Tiered Trust or Estate Structures—§ 1.1446-3(d)(2)(iii)”, first paragraph, line 4, the language “1446(d) to provide that a foreign trust's” is corrected to read “1446(d) to provide that amounts withheld on a foreign trust's”.

§ 1.1461-1 [Corrected]

2. On page 52483, column 1, § 1.1461-1, paragraph (a)(1), line 13, the language “under § 11446-4(g). The previous two” is corrected to read “under § 1.1446-4(g). The previous two.”

Cynthia E. Grigsby,
Acting Chief, Publications and Regulations Branch, Legal Processing Division, Associate Chief Counsel, (Procedures and Administration).

[FR Doc. 03-27865 Filed 11-4-03; 8:45 am]

BILLING CODE 4830-01-P